FEDERAL COMMUNICATIONS COMMISSION

[DA 15-1075]

Notice of Debarment; Federal Lifeline Universal Service Support Mechanism

AGENCY: Federal Communications Commission.

ACTION: Notice.

SUMMARY: The Enforcement Bureau (Bureau) gives notice of Wes Yui Chew's debarment from the federal Lifeline universal service support mechanism (Lifeline program) for a period of three years. During this debarment period, Mr. Chew is prohibited from participating in activities associated with or related to the Lifeline program, including the receipt of funds or discounted services through the Lifeline program, or consulting with, assisting, or advising applicants or service providers regarding the Lifeline program.

DATES: Debarment commences on the date Mr. Chew receives the debarment letter or October 26, 2015, whichever comes first, for a period of three years.

FOR FURTHER INFORMATION CONTACT: Celia Lewis, Paralegal Specialist, Federal Communications Commission, Enforcement Bureau, Investigations and Hearings Division, Room 4-A422, 445 12th Street SW., Washington, DC 20554. Celia Lewis may be contacted by phone at (202) 418-7456 or email at Celia.Lewis@fcc.gov. If Ms. Lewis is unavailable, you may contact Mr. Kalun Lee, Deputy Chief, Investigations and Hearings Division, by telephone at (202) 418-0796 and by email at Kalun.Lee@fcc.gov.

SUPPLEMENTARY INFORMATION: The Bureau debars Mr. Chew for a period of three years pursuant to 47 CFR 54.8 and 0.111(a)(14). Mr. Chew's conviction for money laundering in violation of 18 U.S.C. 1957(a), in connection with fraudulent claims against the Lifeline program is the basis for this debarment. Attached is the Notice of Debarment, DA 15-1075, which was mailed to Mr. Chew and released on September 25, 2015. The complete text of the Notice of Debarment is available for public inspection and copying during regular business hours at the FCC Reference Information Center, Portal II, 445 12th Street SW., Room CY-A257, Washington, DC 20554. In addition, the complete text is available on the FCC's Web site at http://www.fcc.gov.

Federal Communications Commission.
Jeffrey J. Gee,
Chief, Investigations and Hearings Division, Enforcement Bureau.

September 25, 2015

DA 15-1075

SENT VIA CERTIFIED MAIL, RETURN RECEIPT REQUESTED

Mr. Wes Yui Chew

c/o Daniel G. Webber, Jr.

Ryan Whaley Coldiron Shandy PLLC

119 N. Robinson Avenue, Suite 900

Oklahoma City, OK 73102

Re: Notice of Debarment, File No. EB-IHD-15-00019046

Dear Mr. Chew:

The Federal Communications Commission (Commission) hereby notifies you that, pursuant to section 54.8 of the Commission's rules, you are prohibited from participating in activities associated with or related to the federal low-income support mechanism (Lifeline program) for three years from either the date of your receipt of this Notice of Debarment or of its publication in the Federal Register, whichever comes first (Debarment Date).¹

¹ 47 CFR 54.8 (e), (g); 47 CFR 0.111 (delegating to the Bureau authority to resolve universal service suspension and debarment proceedings). In 2007, the Commission extended the debarment rules to apply to all federal universal service support mechanisms, including the Lifeline program. See Comprehensive Review of the Universal Service Fund Management, Administration, & Oversight, Report and Order, 22 FCC Rcd 16372, 16410-12 (2007) (Program Management Order) (renumbering section 54.521 of the universal service debarment rules as section 54.8 and amending subsections (a)(1), (a)(5), (c), (d), (e)(2)(i), (e)(3), (e)(4), and (g)).

On May 26, 2015, the Commission's Enforcement Bureau (Bureau) sent you a Notice of suspension and initiation of debarment proceeding (Notice of Suspension) that was published in the Federal Register on June 18, 2015.² The Notice of Suspension suspended you from participating in any activities associated with or related to the Lifeline program, including receiving funds or discounted services through the Lifeline program, or consulting with, assisting, or advising applicants or service providers regarding the Lifeline program.³ It also described the basis for initiating debarment proceedings against you, the applicable debarment procedures, and the effect of debarment.

² Letter from Jeffrey J. Gee, Chief, Investigations and Hearings Division, FCC Enforcement Bureau, to Wes Yui Chew, Notice of suspension and initiation of debarment proceeding, 30 FCC Rcd 5006 (Enf. Bur. 2015); 80 FR 34906-01 (June 18, 2015).

³ 47 CFR 54.8(a)(1), (d).

As discussed in the Notice of Suspension, on June 12, 2014, you were convicted of money laundering in violation of 18 U.S.C. 1957(a), in connection with fraudulent claims against the federal Lifeline program.⁴ You were the sole owner and president of Icon Telecom, Inc. (Icon), a participant in the Lifeline program from July 2011 until September 2013.⁵ Specifically, you pled guilty to one count of money laundering for transferring $20,455,829.10 from an Icon bank account to a personal bank account, despite knowing that Icon had thousands fewer customers than it had reported to the Commission.⁶ Pursuant to section 54.8(c) of the Commission's rules, your conviction of criminal conduct in connection with the Lifeline program is the basis for this debarment.⁷

⁴ Any further reference in this letter to “your conviction” refers to your guilty plea and subsequent sentencing in United States v. Chew, Criminal Docket No. 5:14-cr-00170-D, Plea Agreement (W.D. Okla. filed June 12, 2014) (Plea Agreement). See also Lifeline & Link Up Reform & Modernization, WC Docket No. 11-42, CC Docket No. 96-45, WC Docket No. 03-109, Report and Order and Further Notice of Proposed Rulemaking, 27 FCC Rcd 6656 (2012) (Lifeline Reform Order).

⁵ United States v. Chew, Criminal Docket No. 5:14-c-00170-D, Information at 4 (W.D. Okla. filed June 3, 2014).

⁶ Id. at 7-8; Plea Agreement at 2; see also United States Attorney's Office, western District of oklahoma, Press Release, Icon Telecom and Its Owner Plead Guilty And Agree To Forfeit More Than $27 Million In Connection With Federal Wireless Telephone Subsidy Program, June 12, 2014, available at http://www.justice.gov/usao-wdok/pr/icon-telecom-and-its-owner-plead-guilty-and-agree-forfeit-more-27-million-connection.

⁷ 47 CFR 54.8(c).

In accordance with the Commission's debarment rules, you were required to file with the Commission any opposition to your suspension or its scope, or to your proposed debarment or its scope, no later than 30 calendar days from either the date of your receipt of the Notice of Suspension or of its publication in the Federal Register, whichever date occurred first.⁸ The Commission received no opposition from you.

⁸ Id. § 54.8 (e)(3)-(4). Any opposition had to be filed no later than July 1, 2015.

For the foregoing reasons, you are debarred from involvement with the Lifeline program for three years from the Debarment Date.⁹ During this debarment period, you are excluded from participating in any activities associated with or related to the Lifeline program, including the receipt of funds or discounted services through the Lifeline program, or consulting with, assisting, or advising applicants or service providers regarding the Lifeline program.¹⁰

⁹ 47 CFR 54.8(g).

¹⁰ 47 CFR 54.8(a)(1), (d), (g).

Sincerely yours,

Jeffrey J. Gee

Chief, Investigations and Hearings Division, Enforcement Bureau

cc: Johnnay Schrieber, Universal Service Administrative Company (via email), Rashann Duvall, Universal Service Administrative Company (via email), Chris M. Stevens, United States Attorney's Office, Western District of Oklahoma (via email), Scott E. Williams, United States Attorney's Office, Western District of Oklahoma (via email)

[FR Doc. 2015-27076 Filed 10-23-15; 8:45 am]

BILLING CODE 6712-01-P